FEDERAL COMMUNICATIONS COMMISSION

[OMB 3060-1246; FRS 16726]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before July 7, 2020. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-1246.

Title: FCC Reasonable Accommodation forms.

Form Number(s): FCC Form 5626, FCC Form 5627.

Type of Review: Extension of a currently approved collection.

Respondents: Individuals or households; Federal Government.

Number of Respondents and Responses: 54 respondents; 108 responses.

Estimated Time per Response: 0.16 hours-5 hours.

Frequency of Response: One-time reporting requirement.

Obligation to Respond: Voluntary. Statutory authority for these collections is contained in the Rehabilitation Act of 1973, 29 U.S.C. 12101 et seq.; see also 29 CFR part 1630; Establishing Procedures to Facilitate the Provision of Reasonable Accommodation; EEOC, Enforcement Guidance on Reasonable Accommodation and Undue Hardship Under the Americans with Disabilities Act, 29 CFR part 1615.

Total Annual Burden: 284 hours.

Total Annual Cost: $3,400.

Privacy Act Impact Assessment: Yes. The PII in this information collection is covered by the Equal Employment Opportunity Commission's Government-wide System of Records Notice or “SORN,” EEOC/GOVT-1, Equal Employment Opportunity in the Federal Government's Complaint and Appeal Records.

Nature and Extent of Confidentiality: Confidentiality of information will be provided in accordance with the Privacy Act. The Commission is not requesting respondents to submit confidential information to the Commission. If the Commission requests respondents to submit information which respondents believe is confidential, respondents may request confidential treatment of such information pursuant to section 0.459 of the Commission's rules, 47 CFR 0.459.

Needs and Uses: This information will be used by the Office of Workplace Diversity to process, track, and maintain the confidentiality of reasonable accommodation requests submitted on FCC Form 5626 and FCC Form 5627.

Federal Communications Commission.
Marlene Dortch,
Secretary, Office of the Secretary.

[FR Doc. 2020-09808 Filed 5-7-20; 8:45 am]

BILLING CODE 6712-01-P